DEPARTMENT OF THE TREASURY

Internal Revenue Service

Proposed Collection; Comment Request for Form 4598

AGENCY: Internal Revenue Service (IRS), Treasury.

ACTION: Notice and request for comments.

SUMMARY: The Department of the Treasury, as part of its continuing effort to reduce paperwork and respondent burden, invites the general public and other Federal agencies to take this opportunity to comment on proposed and/or continuing information collections, as required by the Paperwork Reduction Act of 1995, Public Law 104-13 (44 U.S.C. 3506(c)(2)(A)). Currently, the IRS is soliciting comments concerning Form 4598, Form W-2 or 1099 Not Received or Incorrect.

DATES: Written comments should be received on or before June 12, 2001 to be assured of consideration.

ADDRESSES: Direct all written comments to Garrick R. Shear, Internal Revenue Service, room 5244, 1111 Constitution Avenue NW., Washington, DC 20224.

FOR FURTHER INFORMATION CONTACT: Requests for additional information or copies of the form and instructions should be directed to Carol Savage, (202) 622-3945, Internal Revenue Service, room 5242, 1111 Constitution Avenue NW., Washington, DC 20224.

SUPPLEMENTARY INFORMATION: Title: Form W-2 or 1099 Not Received or Incorrect.

OMB Number: 1545-0597.

Form Number: 4598.

Abstract: Form 4598 is used to resolve taxpayer inquiries concerning the non-receipt of, or incorrect, Forms W-2 or 1099. Parts one and two of Form 4598 are mailed to the employer or payer for response to the IRS and, if necessary, to the taxpayer. Part three is mailed to the taxpayer advising the taxpayer of the action taken on their behalf.

Current Actions: A checkbox and a line for “other” were added because the existing form boxes do not allow for the provision of enough information to the payer regarding the problem IRS is trying to resolve for the taxpayer.

Type of Review: Extension of a currently approved collection.

Affected Public: Individuals, business or other for-profit organizations, farms, and Federal, state, local or tribal governments.

Estimated Number of Responses: 850,000.

Estimated Time Per Respondent: 15 minutes.

Estimated Total Annual Burden Hours: 212,500.

The following paragraph applies to all of the collections of information covered by this notice:

An agency may not conduct or sponsor, and a person is not required to respond to, a collection of information unless the collection of information displays a valid OMB control number. Books or records relating to a collection of information must be retained as long as their contents may become material in the administration of any internal revenue law. Generally, tax returns and tax return information are confidential, as required by 26 U.S.C. 6103.

Request for Comments

Comments submitted in response to this notice will be summarized and/or included in the request for OMB approval. All comments will become a matter of public record. Comments are invited on: (a) whether the collection of information is necessary for the proper performance of the functions of the agency, including whether the information shall have practical utility; (b) the accuracy of the agency's estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Approved: April 9, 2001.
Garrick R. Shear,
IRS Reports Clearance Officer.

[FR Doc. 01-9220 Filed 4-12-01; 8:45 am]

BILLING CODE 4830-01-P